DEPARTMENT OF THE INTERIOR

Fish and Wildlife Service

[FWS-R8-R-2008-N0173, 80230-1265-0000-S3]

San Luis and Merced National Wildlife Refuges and Grasslands Wildlife Management Area, Merced County, CA

AGENCY: Fish and Wildlife Service, Interior.

ACTION: Notice of intent to prepare a comprehensive conservation plan and environmental assessment; request for comments.

SUMMARY: We, the Fish and Wildlife Service (Service), intend to prepare a Comprehensive Conservation Plan (CCP) and Environmental Assessment (EA) for San Luis and Merced National Wildlife Refuges (NWRs) and the Grasslands Wildlife Management Area (WMA) located in Merced County, California. We provide this notice in compliance with our CCP policy to advise other Federal and State agencies, Tribes, and the public of our intentions, and to obtain suggestions and information on the scope of issues to consider in the planning process.

DATES: To ensure consideration, we must receive your written comments by October 23, 2008.

ADDRESSES: Send your comments or requests for more information by any of the following methods.

E-mail: Sandy_Osborn@fws.gov. Include “San Luis CCP” in the subject line of the message.

Fax: Attn: Ms. Sandy Osborn, (916) 414-6497.

U.S. Mail: California and Nevada Region, Refuge Planning, U.S. Fish and Wildlife Service, 2800 Cottage Way, W-1832, Sacramento, California 95825.

In-Person Drop off: You may drop off comments during regular business hours 8 a.m. to 4:30 p.m., Monday through Friday, at San Luis NWR Complex Headquarters, 947 West Pacheco Blvd., Suite C, Los Banos, California.

FOR FURTHER INFORMATION CONTACT: Ms. Sandy Osborn, Planning Team Leader, at (916) 414-6503.

SUPPLEMENTARY INFORMATION:

Introduction

With this notice, we initiate our process for developing a CCP for San Luis and Merced NWRs and the Grasslands WMA in Merced County, CA. This notice complies with our CCP policy to: (1) Advise other Federal and State agencies, Tribes, and the public of our intention to conduct detailed planning on this refuge and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

Each unit of the National Wildlife Refuge System is established for specific purposes. We use these purposes as the foundation for developing and prioritizing the management goals and objectives for each refuge within the National Wildlife Refuge System mission, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of San Luis and Merced NWRs and the Grasslands WMA.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

San Luis and Merced NWRs and Grasslands WMA

The San Luis and Merced NWRs and Grasslands WMA are in Merced County, California, adjacent to the communities of Los Banos and Merced. They are situated within the San Joaquin River watershed in the San Joaquin Valley.

Collectively, these three units of the National Wildlife Refuge System contain one of the largest contiguous freshwater wetlands remaining in California, which provides important winter habitat for millions of migratory birds, as well as assemblages of other native wetland- and grassland-dependent wildlife.

The Merced NWR was established in 1951 and consists of 10,262 acres. The San Luis NWR was established in 1967 and consists of 26,878 acres. The Grasslands WMA was established in 1979 and contains more than 190 privately-owned parcels under Service conservation easements totaling approximately 90,000 acres, within an approved acquisition boundary of 230,000 acres.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 18, 2008.
Richard F. Kearney,
Acting Regional Director, California and Nevada Region, Sacramento, California.

[FR Doc. E8-19488 Filed 9-5-08; 8:45 am]

BILLING CODE 4310-55-P